DEPARTMENT OF ENERGY

Federal Energy Regulatory Commission

[Docket No. RP04-615-000]

Iroquois Gas Transmission System, L.P.; Notice of Proposed Change in FERC Gas Tariff

October 7, 2004.

Take notice that on September 30, 2004, Iroquois Gas Transmission System, L.P. (Iroquois) tendered for filing as part of its FERC Gas Tariff, First Revised Volume No. 1, Sixteenth Revised Sheet No. 4A, to be effective on November 1, 2004.

Iroquois states that, pursuant to Part 154 of the Commission's regulations and section 12.3 of the General Terms and Conditions of its tariff, it is filing Sixteenth Revised Sheet No. 4A and supporting workpapers as part of its annual update of its Deferred Asset Surcharge to reflect the annual revenue requirement associated with its Deferred Asset for the amortization period commencing November 1, 2004.

Iroquois states that the revised tariff sheet reflects a decrease of $.0001 per Dth in Iroquois' effective Deferred Asset Surcharge for Zone 1 (from $.0006 to $.0005 per Dth), a decrease of $.0001 per Dth in Iroquois' effective Deferred Asset Surcharge for Zone 2 (from $.0004 to $.0003 per Dth) and a decrease in the Inter-Zone surcharge of $.0002 per Dth (from $.0010 to $.0008 per Dth).

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2639 Filed 10-14-04; 8:45 am]

BILLING CODE 6717-01-P